POSTAL SERVICE

39 CFR Part 111

Express Mail Open and Distribute and Priority Mail Open and Distribute

AGENCY: Postal Service™.

ACTION: Proposed rule.

SUMMARY: The Postal Service proposes to revise Mailing Standards of the United States Postal Service, Domestic Mail Manual (DMM®) 705.16 to require the use of a single-ply address label containing a service barcode with unique Service Type Code “723” or a “DB” prefix along with new Tag 257, Tag 267, or Label 257S, on all Express Mail® Open and Distribute containers. The Postal Service also proposes to revise the service commitment for Express Mail Open and Distribute as a guaranteed end of day product; and to add a five-pound minimum weight requirement for Express Mail Open and Distribute and Priority Mail® Open and Distribute sacks.

DATES: Submit comments on or before October 18, 2010.

ADDRESSES: Mail or deliver written comments to the Manager, Mailing Standards, U.S. Postal Service, 475 L'Enfant Plaza, SW., Room 4446, Washington, DC 20260-4446. Copies of all written comments will be available for inspection and photocopying between 9 a.m. and 4 p.m., Monday through Friday, at the Postal Service Headquarters Library, 475 L'Enfant Plaza, SW., 11th Floor North, Washington, DC 20260-0004. E-mail comments, containing the name and address of the commenter, may be sent to: MailingStandards@usps.gov, with a subject line of “Open and Distribute Changes Comments.” Faxed comments are not accepted.

FOR FURTHER INFORMATION CONTACT: Jewelyn Harrington at 202-268-7648 or Garry Rodriguez at 202-268-7281.

SUPPLEMENTARY INFORMATION:

Express Mail

Express Mail Open and Distribute service is designed to provide mailers with expedited service to destination delivery units and other mail processing facilities. Currently, Express Mail Open and Distribute service follows the same mailing requirements and delivery standards as Express Mail service.

The requirement to use the Express Mail Label 11 series with a 13-digit barcode prevents the Postal Service from differentiating between Express Mail and Express Mail Open and Distribute products.

The delivery standards for Express Mail service are intended for residential/business customers and as a result are delivered by 12 noon or 3 p.m. Express Mail Open and Distribute is a product that is delivered to a processing facility or delivery unit for further processing of the contents.

To account for the Express Mail Open and Distribute product, the Postal Service is proposing to require mailers to place a single-ply address label with a service barcode on all Express Mail Open and Distribute containers and to submit an electronic file. The service barcode is required to be a USS 128 or Code 39 barcode with a “DB” prefix, or concatenated GS1-128 (eVS approved mailers) symbology with a unique Service Type Code (STC) “723”. The text, “USPS SCAN ON ARRIVAL,” must appear above the barcode. This scan information is exclusive to the Open and Distribute service and will assist in facilitating correct scan behavior.

This proposed requirement is in accordance with instructions for barcode specifications, electronic file format and testing, and the certification process in Publication 91, Confirmation Services Technical Guide.

The Postal Service also proposes to replace Tag 157 with Tag 257 (DDU), Tag 267 (SCF, NDC), and Label 257S (DDU), to assist in the verification of the arrival at the destination facility for all Express Mail Open and Distribute containers.

Generally, the Postal Service processing window is 12 noon to 6 a.m. The window to dispatch mail from plants to delivery units is from 4 a.m. to 9 a.m. To better align the Express Mail Open and Distribute product with processing and dispatch windows, without loss of service, we are proposing to change the service commitment to end of day (11:59 p.m.).

Express Mail and Priority Mail

In addition, processing facilities currently receive Express Mail Open and Distribute and Priority Mail Open and Distribute sacks containing mail that weighs less than five pounds, making it difficult to identify that the sack contains mail.

The handling of low volume sacks in plants has been indentified as problematic with the Open and Distribute product. Because of the risk of sacks being mishandled as empty equipment, limiting our effort to meet service commitments, we are proposing to establish a five-pound minimum weight requirement for all Express Mail Open and Distribute and Priority Mail Open and Distribute sacks.

The proposed changes to Express Mail Open and Distribute and Priority Mail Open and Distribute will provide better visibility of the product and enable the Postal Service to monitor service performance based on the product.

Although we are exempt from the notice and comment requirements of the Administrative Procedure Act [5 U.S.C. 553(b), (c)] regarding proposed rulemaking by 39 U.S.C. 410(a), we invite public comments on the following proposed revisions to Mailing Standards of the United States Postal Service, Domestic Mail Manual (DMM), incorporated by reference in the Code of Federal Regulations. See 39 CFR Part 111.1.

List of Subjects in 39 CFR Part 111

Administrative practice and procedure, Postal Service.

Accordingly, 39 CFR 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

700 Special Standards

* * * * *

705 Advanced Preparation and Special Postage Payment Systems

* * * * *

16.0 Express Mail Open and Distribute and Priority Mail Open and Distribute

16.1 Prices and Fees

16.1.1 Basis of Price

[Revise the first and second sentence of 16.1.1 as follows:]

Mailers must pay Express Mail and Priority Mail postage based on the weight of the entire contents of the shipment. The minimum weight requirement is five pounds, and the maximum weight limit for each container is 70 pounds. * * *

16.1.2 Zone Prices

[Revise 16.1.2 as follows:]

Compute zone prices, for the applicable class of mail, from the accepting Post Office to the destination facility for the container (not the destination Post Office for the enclosed mail).

* * * * *

16.1.5 Payment Method

[Revise the text in 16.1.5 as follows:]

Postage payment methods are as follows:

a. Postage on the enclosed mail may be paid by any method permitted for that mail class, except for ordinary postage stamps requiring cancellation.

b. Express Mail postage may be paid under any of the options listed in 414.1.1, except Click-N-Ship. Express Mail postage must be affixed to blue Tag 257, to yellow Tag 267, to the Open and Distribute tray box, or be part of the address label.

c. Priority Mail postage may be paid under 424.1.1. Priority Mail postage must be affixed to or hand-stamped on green Tag 161, pink Tag 190, or the Open and Distribute tray box, or be part of the address label.

* * * * *

16.2 Basic Standards

* * * * *

16.2.2 Content Standards

[Revise the DMM reference numbers in the parentheses at the end of the first sentence of 16.2.2 as follows:]

* * * (see 410 for Express Mail standards and 420 for Priority Mail standards).* * *

[Revise the last sentence of 16.2.2 as follows:]

* * * Mailers are not required to place bundles of mail in sacks or trays when all of the mail enclosed in an Open and Distribute sack is destined to a 5-digit facility.

16.3 Additional Standards for Express Mail Open and Distribute

16.3.1 Service Objectives

[Revise the first sentence and add new second sentence in 16.3.1 as follows:]

The Express Mail service guarantee for Express Mail Open and Distribute is receipt by end of day (11:59 p.m.) and ends upon receipt by scan of the Express Mail Open and Distribute container at the destination postal facility. * * *

* * * * *

16.5 Preparation

16.5.1 Containers for Expedited Transport

Acceptable containers for expedited transportation are as follows:

[Revise item a to reflect new tags as follows:]

a. An Express Mail Open and Distribute shipment must be contained in a USPS-approved sack using Tag 257 or Tag 267 or in a USPS-provided Express Mail Open and Distribute tray box (Tag 257 and Tag 267 are not required for tray boxes; only the 4x6 address label should be applied), except as provided in 16.5.1c and 16.5.1d.

* * * * *

[Revise item c to reflect new labels as follows:]

c. An Express Mail or Priority Mail Open and Distribute shipment destined to a DDU may be contained in a USPS-provided Express Mail Flat Rate Envelope using Label 257S or Priority Mail Flat Rate Envelope or boxes using Label 190S.

* * * * *

[Revise the heading of 16.5.2 as follows:]

16.5.2 Express Mail and Priority Mail Sack Labels

[Revise the text in 16.5.2 as follows:]

Labels for Express Mail or Priority Mail sacks containing Open and Distribute shipments must be barcoded and meet the requirements in 708.6.0. All lines of information must be completely visible when inserted into the label holder. Label sacks as follows:

a. Line 1 (destination line) provides information on the destination entry office where the enclosed mail is to be distributed.

1. For destination delivery unit (DDU) distribution, use the facility name and ZIP Code found in the Drop Shipment Address File available at the USPS FAST Web site at https://fast.usps.com (click Resources in the left-hand navigation bar, then Go for “Drop Ship Product File Download”).

2. For SCF distribution, use the destination in L005, Column B.

3. For ADC distribution, use the destination in L004, Column B (Priority Mail Open and Distribute Only).

4. For NDC distribution, use the destination in L601, Column B.

5. For ASF distribution, use L602, Column B (Priority Mail Open and Distribute Only).

b. For Line 2 (content line), print “EXPRESS MAIL OPEN AND DIST” or “PRIORITY MAIL OPEN AND DIST,” as applicable.

c. For Line 3 (origin line), show the city and state of the entry Post Office or the mailer's name and the city and state of the mailer's location. It is recommended that the mailer's name also appear with the city and state of the entry Post Office. See 708.6.2.5 for additional standards.

[Revise the tag numbers in the heading of 16.5.3 as follows:]

16.5.3 Tags 257 and 267—Express Mail Open and Distribute

[Revise the text in 16.5.3 as follows:]

Tag 257 and Tag 267 provide a place to affix Express Mail postage and the address label for the destination facility. Tag 257 or Tag 267 must be attached to each Express Mail sack, in addition to the Express Mail sack label, to identify it as an Express Mail Open and Distribute shipment as follows:

a. Attach Tag 267 to sacks used as Express Mail Open and Distribute containers destined to a NDC or SCF facility.

b. Attach Tag 257 to sacks used as Express Mail Open and Distribute containers destined to a DDU. Label 257S may be affixed to containers used for Express Mail Open and Distribute shipments prepared under 16.5.1c or 16.5.1d.

16.5.4 Tags 161 and 190—Priority Mail Open and Distribute

* * * Tag 161 or Tag 190 must be attached to each Priority Mail sack, in addition to the Priority Mail sack label, or container to identify it as a Priority Mail Open and Distribute shipment as follows:

* * * * *

[Revise the last sentence in item b as follows:]

b. * * * Label 190S may be affixed to containers used for Priority Mail Open and Distribute shipments prepared under 16.5.1c or 16.5.1d.

* * * * *

16.5.6 Address Labels

[Revise the first sentence in 16.5.6 as follows:]

In addition to Tag 257, Tag 267, Tag 161, or Tag 190, USPS-provided containers and envelopes and mailer-supplied containers used for Express Mail Open and Distribute or Priority Mail Open and Distribute must bear an address label that states “OPEN AND DISTRIBUTE AT:” followed by the facility name. * * *

16.5.7 Address Label Service Barcode Requirement

[Revise the introductory text of 16.5.7 as follows:]

An electronic service barcode using the USS 128, USS 39, or concatenated GS1-128 (eVS approved mailers) symbology for Express Mail Open and Distribute, and the concatenated GS1-128 symbology for Priority Mail Open and Distribute, must be incorporated in the address label. Mailers must prepare address labels using the formats in 16.5.8 through 16.5.12. The labels must include either a service type code, “723” with a GS1-128 barcode or “DB” prefix with a USS 128 or USS 39 barcode for Express Mail Open and Distribute or “55/123” for Priority Mail Open and Distribute, to identify the service. The human-readable text “USPS SCAN ON ARRIVAL” must appear above the barcode. USPS certification is required from the National Customer Support Center (NCSC) for each printer used to print barcoded open and distribute address labels, except for barcodes created using USPS Shipping Assistant. NCSC contact information, formatting specifications for barcodes and electronic files, and certification, are included in Publication 91, Confirmation Services Technical Guide.

Mailers can use the following options available to create a label with a service barcode for Express Mail Open and Distribute and Priority Mail Open and Distribute address labels:

* * * * *

16.6 Enter and Deposit

* * * * *

16.6.2 Entry

[Revise the first sentence of 16.6.2 as follows:]

A PS Form 3152, Confirmation Services Certification, (Priority Mail Open and Distribute) or PS Form 3152-E (Express Mail Open and Distribute) must accompany each Open and Distribute shipment. * * *

* * * * *

We will publish an appropriate amendment to 39 CFR part 111 to reflect these changes if our proposal is adopted.

Neva R. Watson,
Attorney, Legislative.

[FR Doc. 2010-23315 Filed 9-16-10; 8:45 am]

BILLING CODE 7710-12-P